DEPARTMENT OF COMMERCE

Foreign-Trade Zones Board

[B-42-2014]

Foreign-Trade Zone (FTZ) 183—Austin, Texas, Notification of Proposed Production Activity, Flextronics America, LLC, (Automated Data Processing Machines), Austin, Texas

Flextronics America, LLC (Flextronics) submitted a notification of proposed production activity to the FTZ Board for its facility in Austin, Texas within Subzone 183C. The notification conforming to the requirements of the regulations of the FTZ Board (15 CFR 400.22) was received on May 29, 2014.

Flextronics already has authority to produce automated data processing machines within Subzone 183C. The current request would add a finished product as well as foreign status materials/components to the scope of authority. Pursuant to 15 CFR 400.14(b), additional FTZ authority would be limited to the specific foreign-status materials/components and specific finished products described in the submitted notification (as described below) and subsequently authorized by the FTZ Board.

Production under FTZ procedures could exempt Flextronics from customs duty payments on the foreign status materials/components used in export production. On its domestic sales, Flextronics would be able to choose the duty rates during customs entry procedures that apply to exhaust subassemblies for automated data processing machines (duty-free) for the foreign status materials/components noted below and in the existing scope of authority. Customs duties also could possibly be deferred or reduced on foreign status production equipment.

The materials/components sourced from abroad include: Supports; gaskets; rubber rings; lock clamps; nuts; standoffs; pin connectors; bushings; holders; backer and button switches; connector brackets; housing gaskets; torsion bars; LP covers; spacers; transformers; inductors; ferrite EMI filters; wireless Bluetooth® assemblies; cover shielding; WiFi antenna assemblies; solid state drives; resistors; flexible printed circuit boards; printed circuit connectors; terminals; connectors; integrated circuits; repeaters; power cords; CPU stiffener assemblies; filters; and, cables (duty rate ranges from duty-free to 5.7%).

Public comment is invited from interested parties. Submissions shall be addressed to the Board's Executive Secretary at the address below. The closing period for their receipt is July 15, 2014.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

FOR FURTHER INFORMATION CONTACT: Elizabeth Whiteman at Elizabeth.Whiteman@trade.gov or (202) 482-0473.

Dated: June 2, 2014.
Andrew McGilvray,
Executive Secretary.

[FR Doc. 2014-13083 Filed 6-4-14; 8:45 am]

BILLING CODE 3510-DS-P